NATIONAL CREDIT UNION ADMINISTRATION

Sunshine Act; Notice of Meeting

Time and Date: 10 a.m., Thursday, July 26, 2007.

Place: Board Rom, 7th Floor, Room 7047, 1775 Duke Street, Alexandria, VA 22314-3428.

Status: Open.

Matters to be Considered:

1. Quarterly Insurance Fund Report.

2. Reprogramming of NCUA's Operating Budget for 2007.

3. Advance Notice of Proposed Rulemaking: Parts 703 and 704 of NCUA's Rules and Regulations, Permissible Foreign Currency Investments for Federal Credit Unions and Corporate Credit Unions.

4. Final Rule: Parts 748 and 749 of NCUA'S Rules and Regulations, Catastrophic Act Reporting and Records Preservation.

Recess: 11 a.m.

Time and Date: 11:15 a.m., Thursday, July 26, 2007.

Place: Board Room, 7th Floor, Room 7047, 1775 Duke Street, Alexandria, VA 22314-3428.

Status: Closed.

Matters to be Considered:

1. Administrative Action under section 206 of the Federal Credit Union Act. Closed pursuant to Exemptions (6), (8), and (9).

2. Action under Section 205 of the Federal Credit Union Act. Closed pursuant to Exemptions (5), (6), (7), and (8).

FOR FURTHER INFORMATION CONTACT: Mary Rupp, Secretary of the Board, Telephone: 703-518-6304.

Mary Rupp,
Secretary of the Board.

[FR Doc. 07-3613 Filed 7-19-07; 3:25 pm]

BILLING CODE 7535-07-M